FEDERAL COMMUNICATIONS COMMISSION

Sunshine Act Meeting

March 7, 2002.

Open Commission Meeting; Thursday, March 14, 2002

The Federal Communications Commission will hold an Open Meeting on the subjects listed below on Thursday March 14, 2002, which is scheduled to commence at 9:30 a.m. in Room TW-C305, 445 12th Street, SW., Washington, DC.

Item No., Bureau, and Subject

1—Cable Services—Title: Inquiry Concerning High-Speed Access to the Internet Over Cable and Other Facilities (GN Docket No. 00-185); Internet Over Cable Declaratory Order Proceeding; and Appropriate Regulatory Treatment for Broadband Access to the Internet Over Cable Facilities. Summary: The Commission will consider a Declaratory Ruling and Notice of Proposed Rulemaking addressing the legal classification and the appropriate regulatory framework under the Communications Act of 1934, as amended, for broadband access to the Internet over cable system facilities.

2—Common Carrier—Title: Implementation of Further Streamlining Measures for Domestic Section 214 Authorizations (CC Docket No. 01-150). Summary: The Commission will consider a Report and Order concerning streamlined procedures for transfer of control applications by domestic telecommunications carriers pursuant to section 214 of the Communications Act of 1934, as amended.

3—Common Carrier—Title: Presubscribed Interexchange Carrier Charges (CCB/CPD File No. 01-12, RM No. 10131). Summary: The Commission will consider an Order and Notice of Proposed Rulemaking concerning charges for changing end users' presubscribed interexchange carriers.

4—International—Title: Mitigation of Orbital Debris. Summary: The Commission will consider a Notice of Proposed Rule Making concerning mitigation of orbital debris by satellite systems.

5—Wireless Telecommunications—Title: Improving Public Safety Communications in the 800 MHz Band Consolidating the 900 MHz Industrial/Land Transportation and Business Pool Channels, Notice of Proposed Rulemaking (NPRM). Summary: The Commission will consider a Notice of Proposed Rulemaking inviting comments on how best to remedy interference to 800 MHz band public safety systems.

6—Wireless Telecommunications and Office of Engineering and Technology—Title: Amendment of Parts 2 and 25 of the Commission's Rules to Permit Operation of NGSO FSS Systems Co-Frequency with GSO and Terrestrial Systems in the Ku-Band Frequency Range (ET Docket No. 98-206; RM-9147 and RM-9245); Amendment of the Commission's Rules to Authorize Subsidiary Terrestrial Use of the 12.2-12.7 GHz Band by Direct Broadcast Satellite Licensees and Their Affiliates; and Applications of Broadwave USA, PDC Broadband Corporation, and Satellite Receivers, Ltd. to Provide A Fixed Service in the 12.2-12.7 GHz Band. Summary: The Commission will consider further action regarding the new Multichannel Video Distribution and Data Service (MVDDS) in the 12.2-12.7 GHz band.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@apl.com.

This meeting can be viewed over George Mason University's Capitol Connection. The Capitol Connection also will carry the meeting live via the Internet. For information on these services call (703) 834-1470 Ext. 10. The audio portion of the meeting will be broadcast live on the Internet via the FCC's Internet audio broadcast page at http://www.fcc.gov/realaudio/. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
William F. Caton,
Acting Secretary.

[FR Doc. 02-6031 Filed 3-8-02; 2:17 pm]

BILLING CODE 6712-01-P